OFFICE OF NATIONAL DRUG CONTROL POLICY

Leadership Conference on Medical Education in Substance Abuse

AGENCY: Office of National Drug Control Policy.

ACTION: Notice.

SUMMARY: A conference of leaders in the field of medical education and healthcare policy will be held on Wednesday, January 16th, 2008 at the Hyatt Regency Hotel, Washington, DC on Capitol Hill, New Jersey Ave., NW., and Washington DC, starting at 8 a.m. and concluding at 5:30 p.m. The overall objectives of the Leadership Conference are to advance widespread use of screening and brief intervention procedures designed to identify and promote behavioral change in populations engaged in risky, problematic substance use, or that have a diagnosis of abuse/addiction. Abuse of illicit drugs, alcohol, or prescription drugs adversely affects the health of millions of Americans. Wide-spread implementation of screening and brief intervention procedures can have a major, positive impact on public health. The specific conference objectives are: (1) To share with medical educators and other contributors to improving in public health, the positive benefits of screening and brief interventions; (2) To devise strategies to implement and sustain Screening, Brief Intervention and Referral to Treatment (SBIRT) procedures for substance abuse in various healthcare settings; (3) To promote adoption and use of new reimbursable healthcare procedural codes (screening and brief intervention) and examine cost-effectiveness of implementing the codes; (4) To address best practices for performing these procedures in various healthcare settings; (5) To identify challenges to implementation of these procedures in various healthcare settings and conceptualize strategies to address these challenges; (6) To generate business models for the procedures applicable to specific heath care environments; (7) To address training and educational needs for the medical community and devise efficient methods for widespread dissemination of these practices. Members of the public who wish to attend the meeting should telephone ONDCP's Leadership Conference on Medical Education telephone line at (202) 395-6750 to arrange building access.

FOR FURTHER INFORMATION CONTACT: June Sivilli at (202) 395-5526.

Dated: December 6, 2007.
Linda V. Priebe,
Assistant General Counsel.

[FR Doc. E7-24024 Filed 12-11-07; 8:45 am]

BILLING CODE 3180-02-P